ENVIRONMENTAL PROTECTION AGENCY

[FRL-9086-6; Docket ID No. EPA-HQ-ORD-2009-0855]

An Assessment of Decision-Making Processes: The Feasibility of Incorporating Climate Change Information Into Land Protection Planning

AGENCY: Environmental Protection Agency (EPA).

ACTION: Notice of Public Comment Period.

SUMMARY: EPA is announcing a 30-day public comment period for the draft document titled, “An Assessment of Decision-Making Processes: The Feasibility of Incorporating Climate Change Information into Land Protection Planning” (EPA/600/R-09/142a). The document was prepared by the National Center for Environmental Assessment within EPA's Office of Research and Development. This draft document is a review of decision-making processes of selected land protection programs. The goal of this document is to assess the feasibility of incorporating climate change impacts information into the evaluation of these programs. The assessment revealed that there are several strategies that might be useful for incorporating climate change information into decision making. As part of a portfolio of adaptation strategies, land protection may become more important for jurisdictions, particularly to ameliorate climate change impacts on watersheds and wildlife.

The public comment period and the external peer review, which will occur after the public comment period, are separate processes that provide opportunities for all interested parties to comment on the document. EPA intends to forward the public comments that are submitted in accordance with this notice to the external peer reviewer panel prior to the meeting for their consideration. When finalizing the draft document, EPA intends to consider any public comments that EPA receives in accordance with this notice.

EPA is releasing this draft document solely for the purpose of pre-dissemination peer review under applicable information quality guidelines. This document has not been formally disseminated by EPA. It does not represent and should not be construed to represent any Agency policy or determination.

DATES: The 30-day public comment period begins December 31, 2009, and ends February 1, 2010. Technical comments should be in writing and must be received by EPA by February 1, 2010.

ADDRESSES: The draft “An Assessment of Decision-Making Processes: The Feasibility of Incorporating Climate Change Information into Land Protection Planning” is available primarily via the Internet on the National Center for Environmental Assessment's home page under the Recent Additions and the Publications menus at http://www.epa.gov/ncea. A limited number of paper copies are available from the Information Management Team, NCEA; telephone: 703-347-8561; facsimile: 703-347-8691. If you are requesting a paper copy, please provide your name, your mailing address, and the document title, “An Assessment of Decision-Making Processes: The Feasibility of Incorporating Climate Change Information into Land Protection Planning”.

Comments may be submitted electronically via http://www.regulations.gov, by mail, by facsimile, or by hand delivery/courier. Please follow the detailed instructions provided in the SUPPLEMENTARY INFORMATION section of this notice.

FOR FURTHER INFORMATION CONTACT: For information on the public comment period, contact the Office of Environmental Information Docket; telephone: 202-566-1752; facsimile: 202-566-1753; or e-mail: ORD.Docket@epa.gov.

For technical information, contact Britta Bierwagen, NCEA; telephone: 703-347-8613; facsimile: 703-347-8694; or e-mail: bierwagen.britta@epa.gov.

SUPPLEMENTARY INFORMATION:

I. Information About the Project/Document

The document, “An Assessment of Decision-Making Processes: The Feasibility of Incorporating Climate Change Information into Land Protection Planning” describes a review of the decision-making processes of selected programs that protect land to assess the feasibility of incorporating climate-change impacts information into the evaluation of land protection programs. The review focused on a sample of programs with goals to protect wildlife and watersheds. Most programs reviewed use quantitative evaluation criteria and a bottom-up process for selecting parcels. Almost all programs have one or more advisory committees. The assessment revealed that strategies that might be useful for incorporating climate-change information into decision making include new decision-support tools for advisory committees, promulgation of different land protection models (e.g., purchase as opposed to transfer of development rights), and educational outreach for elected officials.

Because land protection decisions are long-term, hard to reverse, and resource intensive, these decisions are important to consider in the context of climate change. Climate change may directly affect the services intended for protection and parcel selection can exacerbate or ameliorate certain impacts. Therefore, when considering long-term acquisition strategies, land protection programs should be considering both the mitigation potential of land through carbon sequestration and the adaptation potential of the land for preserving wildlife migration routes, protecting water resources, and buffering infrastructure and development from storm events. As jurisdictions learn more about possible climate change impacts, certain land protection strategies may become more desirable and feasible as part of a portfolio of adaptation strategies that ameliorate impacts on watersheds and wildlife.

II. How To Submit Technical Comments to the Docket at http://www.regulations.gov

Submit your comments, identified by Docket ID No. EPA-HQ-ORD 2009-0855, by one of the following methods:

• http://www.regulations.gov: Follow the on-line instructions for submitting comments.

• E-mail: ORD.Docket@epa.gov.

• Fax: 202-566-1753.

• Mail: Office of Environmental Information (OEI) Docket (Mail Code: 2822T), U.S. Environmental Protection Agency, 1200 Pennsylvania Ave., NW., Washington, DC 20460. The phone number is 202-566-1752.

• Hand Delivery: The OEI Docket is located in the EPA Headquarters Docket Center, Room 3334 EPA West Building, 1301 Constitution Ave., NW., Washington, DC. The EPA Docket Center's Public Reading Room is open from 8:30 a.m. to 4:30 p.m., Monday through Friday, excluding legal holidays. The telephone number for the Public Reading Room is 202-566-1744. Such deliveries are only accepted during the docket's normal hours of operation, and special arrangements should be made for deliveries of boxed information.

If you provide comments by mail or hand delivery, please submit three copies of the comments. For attachments, provide an index, number pages consecutively with the comments, and submit an unbound original and three copies.

Instructions: Direct your comments to Docket ID No. EPA-HQ-ORD-2009-0855. Please ensure that your comments are submitted within the specified comment period. Comments received after the closing date will be marked “late,” and may only be considered if time permits. It is EPA's policy to include all comments it receives in the public docket without change and to make the comments available online at http://www.regulations.gov, including any personal information provided, unless a comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters or any form of encryption, and be free of any defects or viruses. For additional information about EPA's public docket visit the EPA Docket Center homepage at http://www.epa.gov/epahome/dockets.htm.

Docket: Documents in the docket are listed in the http://www.regulations.gov index. Although listed in the index, some information is not publicly available, e.g., CBI or other information whose disclosure is restricted by statute. Certain other materials, such as copyrighted material, are publicly available only in hard copy. Publicly available docket materials are available either electronically in http://www.regulations.gov or in hard copy at the OEI Docket in the EPA Headquarters Docket Center.

Dated: November 19, 2009.
Rebecca Clark,
Acting Director, National Center for Environmental Assessment.

[FR Doc. E9-31100 Filed 12-30-09; 8:45 am]

BILLING CODE 6560-50-P